SECURITIES AND EXCHANGE COMMISSION

Issuer Delisting; Notice of Application To Withdraw From Listing and Registration; (HyperFeed Technologies, Inc., Common Stock, $.001 Par Value) File No. 1-11108

August 29, 2000.

HyperFeed Technologies, Inc. (“Company”) has filed an application with the Securities and Exchange Commission (“Commission”), pursuant to Section 12(d) of the Securities Exchange Act of 1934 (“Act”) ¹ and Rule 12d2-2(d) ² promulgated thereunder, to withdraw its Common Stock, $.002 par value (“Security”), from listing and registration on the Pacific Exchange, Inc. (‘PCX).

The Security, in addition to being listed on the PCX, was formerly listed on the American Stock Exchange LLC (“Amex”). In September 1999, the Company transferred to primary trading of its Security from the Amex to the National Market of the Nasdaq Stock Market, Inc. (“Nasdaq”). Trading in the Security commenced on the Nasdaq, and was suspended on the Amex, at the opening on September 23, 1999. Shortly thereafter, the Company filed an application with the Commission to withdraw its Security from listing and registration on the Amex. After appropriate opportunity for public comment, the Commission issued an order granting such application and the withdrawal from the Amex became effective at the opening of business on October 25, 1999.³

¹ 15 U.S.c. 78l(d).

² 17 CFR 240.12d2-2.

³ See Securities Exchange Act Release No. 42052 (Oct. 22, 1999).

The Security continues to trade on the Nasdaq. The Company is currently seeking to withdraw the Security from listing and registration on the PCX in order to avoid both the costs associated with maintaining such listing and the potential fragmentation of the market for its Security. The Company notes that trading volume for its Security on the PCX is minimal.

The Company has stated that it has complied with the rules of the PCX in making its withdrawal application and that it has been advised that the Equity Management Team of the PCX has approved such proposed withdrawal, pending final approval of the Company's application before the Commission.

The Company's withdrawal application relates solely to the listing and registration of its Security on the PCX and shall not affect the Security's continued listing on the Nasdaq and registration under Section 12(g) of the Act.⁴

Any interested person may, on or before September 22, 2000, submit by letter to the Secretary of the Securities and Exchange Commission, 450 Fifth Street, NW., Washington, DC 20549-0609, facts bearing upon whether the application has been made in accordance with the rules of the PCX and what terms, if any, should be imposed by the Commission for the protection of investors. The commission, based on the information submitted to it. will issue an order granting the application after the date mentioned above, unless the Commission determines to order a hearing on the matter.

⁴ 15 U.S.C. 78l(g).

⁵ 17 CFR 200.30-3(a)(1).

For the commission, by the Division of Market Regulation, pursuant to delegated authority.⁵
Jonathan G. Katz,
Secretary.

[FR Doc. 00-22717 Filed 9-5-00; 8:45 am]

BILLING CODE 8010-01-M